CONSUMER PRODUCT SAFETY COMMISSION

16 CFR Part 1251

[Docket No. CPSC-2011-0081]

Toys: Determination Regarding Heavy Elements Limits for Unfinished and Untreated Wood

AGENCY: U.S. Consumer Product Safety Commission.

ACTION: Notice of proposed rulemaking.

SUMMARY: The Consumer Product Safety Commission (“Commission” or “CPSC”) is proposing to determine that unfinished and untreated trunk wood does not contain heavy elements that would exceed the limits specified in the Commission's toy standard, ASTM F963-11. Based on this proposed determination, unfinished and untreated trunk wood in toys would not require third party testing. In the “Rules and Regulations” section of this Federal Register, the Commission is issuing this determination as a direct final rule. If we receive no significant adverse comment in response to the direct final rule, we will not take further action on this proposed rule.

DATES: Submit comments by August 17, 2015.

ADDRESSES: You may submit comments, identified by Docket No. CPSC-2011-0081, by any of the following methods:

Electronic Submissions: Submit electronic comments to the Federal eRulemaking Portal at: www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: www.regulations.gov. Do not submit confidential business information, trade secret information, or other sensitive or protected information that you do not want to be available to the public. If furnished at all, such information should be submitted in writing.

Docket: For access to the docket to read background documents or comments received, go to: www.regulations.gov, and insert the docket number CPSC-2011-0081, into the “Search” box, and follow the prompts.

FOR FURTHER INFORMATION CONTACT: Randy Butturini, Project Manager, Office of Hazard Identification and Reduction U.S. Consumer Product Safety Commission, 4330 East West Hwy, Room 814, Bethesda, MD 20814; 301-504-7562: email; rbutturini@cpsc.gov.

SUPPLEMENTARY INFORMATION: Along with this proposed rule, CPSC is publishing a direct final rule in the “Rules and Regulations” section of this issue of the Federal Register. This direct final rule establishes a determination that unfinished and untreated trunk wood does not contain heavy elements that would exceed the heavy elements limits specified in the Commission's mandatory toy standard, ASTM F963-11. Based on this determination, unfinished and untreated trunk wood in toys does not require third party testing. CPSC did not issue a proposed rule before today because CPSC believes that this action is not controversial and CPSC does not expect significant adverse comment. CPSC has explained the reasons for the determination in the direct final rule. Unless CPSC receives significant adverse comment regarding the determination during the comment period, the direct final rule in this issue of the Federal Register will become effective September 15, 2015, and CPSC will not take further action on this proposal. If CPSC receives a significant adverse comment, CPSC will publish a document in the Federal Register withdrawing the direct final rule, and the rule will not take effect. CPSC will then respond to public comments in a later final rule, based on this proposed rule. CPSC does not intend to institute a second comment period on this action. Parties interested in commenting on this determination must do so at this time. For additional information, please see the direct final rule published in the “Rules and Regulations” section of this issue of the Federal Register.

Dated: July 13, 2015.
Todd A. Stevenson,
Secretary, Consumer Product Safety Commission.

[FR Doc. 2015-17414 Filed 7-16-15; 8:45 am]

BILLING CODE 6355-01-P